POSTAL SERVICE

Product Change—Priority Mail Express, Priority Mail, and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: August 6, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with postal regulatory commission | Negotiated service agreement product category and number | MC docket No. | K Docket No.
07/28/25 | PME-PM-GA 1395 | MC2025-1592 | K2025-1584
07/29/25 | PM 913 | MC2025-1593 | K2025-1585
07/30/25 | PM 914 | MC2025-1595 | K2025-1587
07/30/25 | PM 915 | MC2025-1596 | K2025-1588
07/31/25 | PM 916 | MC2025-1597 | K2025-1589
07/31/25 | PME-PM-GA 1396 | MC2025-1598 | K2025-1590
08/01/25 | PME-PM-GA 1397 | MC2025-1602 | K2025-1594

Documents are available at www.prc.gov.

Sean C. Robinson,
Attorney, Corporate and Postal Business Law.

[FR Doc. 2025-14867 Filed 8-5-25; 8:45 am]

BILLING CODE 7710-12-P